DEPARTMENT OF COMMERCE

International Trade Administration

Renewal of the Renewable Energy and Energy Efficiency Advisory Committee and Solicitation of Nominations for Membership

AGENCY: International Trade Administration, U.S. Department of Commerce.

ACTION: Notice of renewal of the Renewable Energy and Energy Efficiency Advisory Committee and solicitation of nominations for membership.

SUMMARY: Pursuant to provisions of the Federal Advisory Committee Act, the Department of Commerce announces the renewal of the Renewable Energy and Energy Efficiency Advisory Committee (the Committee). The Committee shall advise the Secretary of Commerce regarding the development and administration of programs and policies to expand the competitiveness of U.S. exports of renewable energy and energy efficiency goods and services. The Committee's work on renewable energy will focus on technologies, equipment, and services to generate electricity, produce heat, and power vehicles from renewable sources such as solar, wind, biomass, hydropower, geothermal, and hydrogen. The Committee's work on energy efficiency will focus on technologies, services, and platforms that provide system-level energy efficiency to electricity generation, transmission, and distribution. These include smart grid technologies and services, as well as equipment and systems that increase the resiliency of power infrastructure such as energy storage. Climate solutions in the energy sector, such as low-carbon hydrogen production, clean energy transportation, and virtual power plants are also within the scope of the Committee. For the purposes of this Committee, covered goods and services will not include vehicles, feedstock for biofuels, or energy efficiency as it relates to consumer goods or buildings. Non-fossil fuels that reduce carbon consumption (e.g., liquid biofuels and pellets) are included. This notice also requests nominations for membership.

DATES: Nominations for members must be received on or before 5 p.m. Eastern Daylight Time (EDT) on July 22, 2022.

ADDRESSES: Nominations may be emailed to Cora.Dickson@trade.gov.

FOR FURTHER INFORMATION CONTACT: Cora Dickson, Office of Energy & Environmental Industries; phone 202-482-6083; email Cora.Dickson@trade.gov. The REEEAC Charter and other committee materials are posted online at http://trade.gov/reeeac.

SUPPLEMENTARY INFORMATION: The Committee shall consist of approximately 35 members appointed by the Secretary in accordance with applicable Department of Commerce guidance and based on their ability to carry out the objectives of the Committee. Members shall represent U.S. companies, U.S. trade associations, U.S. private sector organizations, and civil society groups with activities focused on the export competitiveness of U.S. renewable energy and energy efficiency goods and services. The Committee shall also represent the range of company or organizational roles in the development of renewable energy and energy efficiency projects, including, for example, project developers, technology integrators, financial institutions, and manufacturers. Members of the Committee are selected, in accordance with applicable Department of Commerce guidelines, based on their ability to carry out the objectives of the Committee as set forth in the Charter and in a manner that ensures that the Committee is balanced in terms of points of view, industry subsector, geography, and company size. The diverse membership of the Committee assures perspectives reflecting the full breadth of the Committee's responsibilities, and, where possible, the Department of Commerce will also consider the ethnic, racial, and gender diversity and various abilities of the United States population.

Members serve at the pleasure of the Secretary from the date of appointment to the Committee to the date on which the Committee's charter terminates. Members serve in a representative capacity presenting the views and interests of a U.S. entity or U.S. organization, as well as their particular subsector; they are, therefore, not Special Government Employees.

Members of the Committee must not be registered as foreign agents under the Foreign Agents Registration Act. No member may represent a company that is majority owned or controlled by a foreign government entity (or foreign government entities). Members of the Committee will not be compensated for their services or reimbursed for their travel expenses.

If you are interested in applying or nominating someone else to become a member of the Committee, please provide the following information:

(1) Sponsor letter on the company's, trade association's or organization's letterhead containing the name, title, and relevant contact information (including phone and email address) of the individual who is applying or being nominated;

(2) An affirmative statement that the nominee will be able to meet the expected time commitments of Committee work. Committee work includes (1) attending in-person committee meetings roughly four times per year (lasting one day each), (2) undertaking additional work outside of full committee meetings including subcommittee conference calls or meetings as needed, and (3) frequently drafting, preparing, or commenting on proposed recommendations to be evaluated at Committee meetings;

(3) Short biography of nominee, including credentials;

(4) Brief description of the company, trade association, or organization to be represented and its business activities; company size (number of employees and annual sales); and export markets served;

(5) An affirmative statement that the nominee meets all Committee eligibility requirements.

Please do not send company, trade association, or organization brochures or any other information. See the ADDRESSES and DATES captions above for how and the deadline for submitting nominations.

Nominees selected for appointment to the Committee will be notified by email.

Man K. Cho,
Deputy Director, Office of Energy and Environmental Industries.

[FR Doc. 2022-12753 Filed 6-14-22; 8:45 am]

BILLING CODE 3510-DR-P